DEPARTMENT OF HEALTH AND HUMAN SERVICES

Program Support Center; Agency Information Collection Activities: Proposed Collections; Comment Request

The Department of Health and Human Services; Program Support Center (PSC) will periodically publish summaries of proposed information collection projects and solicit public comments in compliance with the requirements of Section 3506(c)(2)(A) of the Paperwork Reduction Act of 1995. To request more information on the project or to obtain a copy of the information collection plans and instruments, call the PSC Reports Clearance Officer on (301) 443-1494.

Comments are invited on: (a) whether the proposed collection of information is necessary for the proper performance of the functions of the agency, including whether the information shall have practical utility; (b) the accuracy of the agency's estimate of the burden of the proposed collection of information; (c) ways to enhance the quality, utility and clarity of the information to be collected; and (d) ways to minimize the burden of the collection of information on respondents, including through the use of automated collection techniques or other forms of information technology.

1. PHS Commissioned Corps Application Forms (PHS-50 and PHS-1813)—Revision

The PHS-50 is being revised to reflect a reorganization and clarification of the questions to permit a more logical entry of data by both the applicant and the processing personnel office. No changes are being proposed for the PHS-1813.

The PHS-50, Application for Appointment as a Commissioned Officer in the United States Public Health Service, is used to determine if an applicant is qualified for appointment in the Commissioned Corps of the Public Health Service (PHS). In addition, the information contained in PHS-50 establishes the basis for future assignments and benefits as a commissioned officer.

Respondents: individual applicants seeking appointment as an officer in the Commissioned Corps of the PHS; Total number of Respondents: 1,565 per calendar year; Frequency of Response: once per applicant; Average Burden per Response: 1 hour; Estimated Annual Burden: 1,565 hours.

The PHS 1813, Reference Request for Applicants to the U.S. Public Health Service Commissioned Corps, is used to obtain reference information concerning applicants for appointment in the Commissioned Corps of the PHS. Each applicant is required to provide four references.

Respondents: Persons designated by applicant; Total Number of Respondents: 6,260; Frequency of Response: once per reference source; Average Burden per Response: .25 hour; Estimated Annual Burden: 1,565 hours. Total Burden: 3,130 hours to respondents.

Send comments to Irene West, PSC Reports Clearance Officer, Room 17-A18, Parklawn Building, 5600 Fishers Lane, Rockville, MD 20857. Written comments should be received within 60 days of this notice.

February 25, 2000.
Lynnda M. Regan,
Director, Progam Support Center.

[FR Doc. 00-5336 Filed 3-3-00; 8:45 am]

BILLING CODE 4168-17-M